DEPARTMENT OF TRANSPORTATION

Federal Motor Carrier Safety Administration

[Docket No. FMCSA-2006-26367]

Medical Review Board (MRB) Meeting: Public Meeting

AGENCY: Federal Motor Carrier Safety Administration (FMCSA), DOT.

ACTION: Notice of advisory committee meeting.

SUMMARY: FMCSA announces a meeting of its Medical Review Board (MRB) on Monday and Tuesday, June 25-26, 2018.

DATES: The meeting will be held on Monday and Tuesday, June 25-26, 2018, from 9:15 a.m. to 4:30 p.m., Eastern Daylight Time (EDT).

ADDRESSES: The meeting will be held at the FMCSA National Training Center, 1310 N Courthouse Road, Arlington, VA, 6th floor. Copies of the task statement and an agenda for the entire meeting will be made available in advance of the meeting at www.fmcsa.dot.gov/mrb.

FOR FURTHER INFORMATION CONTACT: Ms. Shannon L. Watson, Senior Advisor to the Associate Administrator for Policy, Federal Motor Carrier Safety Administration, U.S. Department of Transportation, 1200 New Jersey Avenue SE, Washington, DC 20590, (202) 366-5221, mrb@dot.gov.

Services for Individuals with Disabilities: For information on facilities or services for individuals with disabilities or to request special assistance at the meeting, contact Ms. Watson at (202) 366-2551, shannon.watson@dot.gov, by Wednesday, June 13.

SUPPLEMENTARY INFORMATION:

I. Background

The MRB is composed of five medical experts who each serve 2-year terms. Section 4116 of SAFETEA-LU requires the Secretary of Transportation, with the advice of the MRB and the chief medical examiner, to establish, review, and revise “medical standards for operators of commercial motor vehicles that will ensure that the physical condition of operators of commercial motor vehicles is adequate to enable them to operate the vehicles safely.” The MRB operates in accordance with FACA under the terms of its charter, filed November 25, 2017.

II. Agenda

The MRB will finalize its Task 17-1 recommendations to the Agency that it began at its July 2017 meeting on the revision of the Agency's handbook for medical examiners (ME) on the National Registry of Certified Medical Examiners (National Registry), for their use in evaluating interstate commercial motor vehicle (CMV) drivers for a medical qualification determination.

III. Meeting Participation

The meeting is open to the public for its entirety. Oral comments from the public will be heard during the meeting, at the discretion of the MRB Chairman. Members of the public may submit written comments on the topics to be considered during the meeting by Wednesday, June 13, to Federal Docket Management System (FDMC) Docket Number FMCSA-2008-0362 for the MRB using any of the following methods:

• Federal eRulemaking Portal: Go to http://www.regulations.gov. Follow the online instructions for submitting comments.

• Fax: 202-493-2251.

• Mail: Docket Management Facility; U.S. Department of Transportation, 1200 New Jersey Avenue SE, West Building, Room W12-140, Washington, DC 20590.

• Hand Delivery: U.S. Department of Transportation, 1200 New Jersey Avenue SE, Room W12-140, Washington, DC, between 9 a.m. and 5 p.m., ET. Monday through Friday, except Federal holidays.

Issued on: June 4, 2018.
Larry W. Minor,
Associate Administrator for Policy.

[FR Doc. 2018-12354 Filed 6-7-18; 8:45 am]

BILLING CODE 4910-EX-P